DEPARTMENT OF TRANSPORTATION

Federal Transit Administration

[Docket No.: FTA-2023-0006]

Notice of Availability of Programmatic Assessment of Greenhouse Gas Emissions From Transit Projects; Request for Comments

AGENCY: Federal Transit Administration (FTA), Department of Transportation (DOT).

ACTION: Notice of availability; request for comments.

SUMMARY: The Federal Transit Administration (FTA) announces the availability of and requests comments on a Programmatic Assessment of Greenhouse Gas Emissions from Transit Projects.

DATES: Comments must be received by November 24, 2023. Late filed comments will be considered to the extent practicable.

ADDRESSES: The Programmatic Assessment is available through https://www.regulations.gov under docket number FTA-2023-0006.

You may submit comments to Docket No. FTA-2023-0006 by any of the following methods:

Federal eRulemaking Portal: Go to https://www.regulations.gov and follow the online instructions for submitting comments.

Mail: Docket Management Facility: U.S. Department of Transportation, 1200 New Jersey Avenue SE, West Building Ground Floor, Room W12-140, Washington, DC 20590-0001.

Hand Delivery or Courier: West Building Ground Floor, Room W12-140, 1200 New Jersey Avenue SE, Washington, DC, between 8:30 a.m. and 4:30 p.m. e.t., Monday through Friday, except Federal holidays.

Fax: (202) 493-2251.

Instructions: You must include the agency name (Federal Transit Administration) and the Docket Number of this notice at the beginning of your comments. Note that all comments received will be posted without change to https://www.regulations.gov, including any personal information provided.

FOR FURTHER INFORMATION CONTACT: Megan Blum, Office of Environmental Programs, (202) 366-0463, Megan.Blum@dot.gov, or Alexandra Brun, Office of Environmental Programs, (202) 366-7469, Alexandra.Brun@dot.gov; Mark Montgomery, Office of Chief Counsel, (202) 366-1017, Mark.Montgomery@dot.gov. Office hours are from 9:00 a.m. to 5:00 p.m. ET, Monday through Friday, except Federal holidays.

SUPPLEMENTARY INFORMATION:

Background

The National Environmental Policy Act (NEPA) requires Federal agencies to disclose and analyze the environmental effects of their proposed actions. In January 2023, the Council on Environmental Quality (CEQ) issued the National Environmental Policy Act Guidance on Consideration of Greenhouse Gas Emissions and Climate Change (88 FR 1196) (CEQ guidance) to assist agencies in analyzing greenhouse gas (GHG) emissions and climate change effects of their proposed actions under NEPA. The CEQ guidance provides a framework for agencies to consider the effects of a proposed action on climate change, as indicated by its estimated GHG emissions. It also advises agencies to assess the effects of climate change on their proposed actions.

The CEQ guidance acknowledges that incorporation by reference is of great value in considering GHG emissions or the implications of climate change for the proposed action and its environmental effects. The CEQ guidance also notes that an agency may decide that it would be useful and efficient to provide an aggregate analysis of GHG emissions or climate change effects in a programmatic analysis and then incorporate that analysis by reference into future NEPA reviews. FTA considers it practicable to assess the effects of GHG emissions and climate change for transit projects at a programmatic level, where possible.

The Programmatic Assessment of Greenhouse Gas Emissions from Transit Projects (Programmatic Assessment) is a NEPA streamlining tool that creates greater efficiency by: (1) reporting on whether certain types of proposed transit projects merit detailed analysis of their GHG emissions at the project-level; and (2) providing a source of data and analysis for FTA and its project sponsors to reference in future environmental documents for projects where detailed, project-level GHG analysis would provide only limited information beyond what is collected and considered in the Programmatic Assessment. The Programmatic Assessment is intended to update and supersede FTA's January 2017 Programmatic Assessment of Greenhouse Gas Emissions from Transit Projects (82 FR 5636).

The Programmatic Assessment presents results from an analysis to estimate direct and indirect GHG emissions generated from the construction, operations, and maintenance phases for a sample of bus rapid transit, streetcar rail, light rail, commuter rail, and heavy rail projects, as well as an estimate of personal vehicle emissions displaced due to transit's “ridership effect.” Emissions estimates were calculated using FTA's Transit Greenhouse Gas Estimator, version 3.0 (https://www.transit.dot.gov/regulations-and-guidance/environmental-programs/ftas-transit-greenhouse-gas-emissions-estimator), which is an Excel-based tool that allows users to calculate partial lifecycle GHG emissions estimates by transit mode based on limited data inputs. The CEQ guidance also indicates that project proponents should place potential GHG emissions and their impacts in appropriate context. In order to provide additional context for the GHG estimates included in the Programmatic Assessment, the net social benefits of reduced operational emissions resulting from each transit project in the sample were estimated.

The Programmatic Assessment provides a reference for FTA and its project sponsors to use in future NEPA documents to describe the effects of proposed transit investments on partial lifecycle GHG emissions. The Programmatic Assessment's results can inform transit project proponents who are considering the GHG emissions of future transit investments or who might independently want to evaluate the GHG emissions benefits and cost of such investments.

FTA requests comments on the Programmatic Assessment, which is available in the docket. FTA will respond to comments received on the Programmatic Assessment in a second Federal Register notice to be published after the comment period closes. That second notice will also announce the availability of a final Programmatic Assessment that reflects any changes implemented as a result of comments received.

Authority: 42 U.S.C. 4321 et seq.; 40 CFR 1507.3; 49 CFR 1.81(a)(5).

Felicia L. James,
Associate Administrator for Planning and Environment.

[FR Doc. 2023-20745 Filed 9-22-23; 8:45 am]

BILLING CODE 4910-57-P